DEPARTMENT OF HEALTH AND HUMAN SERVICES

Administration for Children and Families

Submission for OMB Review; Comment Request

Title: National Extranet Optimized Runaway and Homeless Youth Management Information System (NEO-RHYMIS).

OMB No.: 0970-0123.

Description: The Runaway and Homeless Youth Act, as amended by Public Law 106-71 (42 U.S.C. 5701 et seq.), mandates that the Department of Health and Human Services (HHS) report regularly to Congress on the status of HHS-funded programs serving runaway and homeless youth. Such reporting is similarly mandated by the Government Performance and Results Act. Organizations funded under the Runaway and Homeless Youth program are required by statute (42 U.S.C. 5712, 42 U.S.C. 5714-2) to meet certain data collection and reporting requirements. These requirements include maintenance of client statistical records on the number and the characteristics of the runaway and homeless youth, and youth at risk of family separation, who participate in the project, and the services provided to such youth by the project.

Respondents: Public and private, community-based nonprofit, and faith-based organizations receiving HHS funds for services to runaway and homeless youth.

Annual Burden Estimates
Instrument | Number of respondents | Number of responses per respondent | Average burden hours per response | Total burden hours
Youth Profile | 536 | 153 | .25 | 20,502
Street Outreach Report | 141 | 4211 | .02 | 11,875
Brief Contacts | 536 | 305 | .15 | 24,522
Turnaways | 536 | 13 | .1 | 697
Data Transfer | 536 | 2 | .5 | 536

Estimated Total Annual Burden Hours: 58,132.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: June 14, 2007.
Robert Sargis,
Reports Clearance Officer.

[FR Doc. 07-3049 Filed 6-20-07; 8:45 am]

BILLING CODE 4184-01-M